DEPARTMENT OF AGRICULTURE

Forest Service

Revision of Land and Resource Management Plan for Cibola National Forest Mountain Ranger Districts: Counties of Bernalillo, Catron, Cibola, Lincoln, McKinley, Sandoval, Sierra, Socorro, Torrance, and Valencia, New Mexico

AGENCY: Forest Service, USDA.

ACTION: Notice of Intent to revise the Cibola National Forest Mountain Ranger Districts Land and Resource Management Plan and prepare an associated Environmental Impact Statement.

SUMMARY: As directed by the National Forest Management Act, the USDA Forest Service is revising the existing Cibola Land and Resource Management Plan (hereafter referred to as Forest Plan) through development of an associated National Environmental Policy Act (NEPA) Environmental Impact Statement (EIS). This notice describes the documents (assessment Report, summaries of public meetings, preliminary needs-for-change statements) available for review and how to obtain them; summarizes the needs for change to the existing Forest Plan; provides information concerning public participation and engagement, including the process for submitting comments; provides an estimated schedule for the planning process, including the time available for comments, and includes the names and addresses of agency contacts who can provide additional information.

DATES: Comments concerning the Needs for Change and Proposed Action provided in this notice will be most useful in the development of the revised plan and draft EIS if received by April 3, 2015. The agency expects to release a draft revised plan and draft EIS, developed through a collaborative public engagement process, by late Fall 2015 or Winter 2015/2016 and a final revised plan and final EIS by Summer 2017.

ADDRESSES: Send written comments to: Forest Planner, Cibola National Forest and National Grasslands, 2113 Osuna Rd. NE., Albuquerque, NM 87113.

To learn of locations of meetings and related information or to request copies of documents, go to http://www.fs.usda.gov/detail/cibola/landmanagement/planning/?cid=fsbdev3_065627 or send an email to: cibolamtnsplanrevision@fs.fed.us.

FOR FURTHER INFORMATION CONTACT: Champe Green, Forest Planner, Cibola National Forest and National Grasslands, Forest Service, USDA; 505-346-3900.

SUPPLEMENTARY INFORMATION: Elaine Kohrman, Forest Supervisor, Cibola National Forest and National Grasslands, 2113 Osuna Rd. NE., Albuquerque, NM 87113.

Nature of the Decision To Be Made

The Cibola National Forest is preparing an EIS to revise the existing Forest Plan. The EIS process is meant to inform the Forest Supervisor so she can decide which alternative best maintains and restores National Forest System terrestrial and aquatic resources while providing ecosystem services and multiple uses, as required by the National Forest Management Act and the Multiple Use Sustained Yield Act.

The revised Forest Plan will describe the strategic intent of managing the Forest for the next 10 to 15 years and will address the identified needs for change to the existing land management plans. The revised Forest Plan will provide management direction in the form of desired conditions, objectives, standards, guidelines, and suitability of lands. It will identify delineation of new management areas and geographic areas across the Forest; identify the timber sale program quantity; make recommendations to Congress for Wilderness designation; and list rivers and streams eligible for inclusion in the National Wild and Scenic Rivers System. The revised Forest Plan will also provide a description of the plan area's distinctive roles and contributions within the broader landscape, identify watersheds that are a priority for maintenance or restoration, include a monitoring program, and contain information reflecting expected possible actions over the life of the plan.

The revised Forest Plan will provide strategic direction and a framework for decision making during the life of the plan, but it will not make site-specific project decisions and will not dictate day-to-day administrative activities needed to carry on the Forest Service's internal operations. The authorization of project-level activities will be based on the guidance/direction contained in the revised plan, but will occur through subsequent project specific decision-making, including NEPA analysis.

The revised Forest Plan will provide broad, strategic guidance designed to supplement, not replace, overarching laws and regulations. Though strategic guidance will be provided, no decisions will be made regarding the management of individual roads or trails, such as those that might be associated with a Travel Management plan under 36 CFR part 212. Some issues, although important, are beyond the authority or control of a Forest Plan and will not be addressed during revision. For example, no decision regarding locatable mineral availability will be made, though standards will be brought forward or developed that would mitigate impacts should an availability decision be necessary in the future.

Needs for Change and Proposed Action

According to the National Forest Management Act, forest plans are to be revised on a 10 to 15 year cycle. The purpose and need for revising the current Forest Plan is (1) the Forest Plan is over 29 years old and 14 years beyond the intended plan period in NFMA, (2) to address changes in economic, social, and ecological conditions, new policies and priorities, and new information based on monitoring and scientific research, and (3) to address the preliminary needs for change to the existing plan, which are summarized below. Extensive public and employee involvement, along with a science-based assessment of the conditions and trends of the Forest's ecological, social, and economic resources, have helped to identify theses preliminary needs for change to the existing Forest Plan.

The Proposed Action is to revise the Forest Plan to address these identified needs for change to the existing Forest Plan. Alternatives to the Proposed Action will be developed to address the significant issues that will be identified through scoping.

What follows is a summary of the preliminary needs for change. A more fully developed description of the preliminary needs for change, is available for review on the plan revision Web site at: http://www.fs.usda.gov/detail/cibola/landmanagement/planning/?cid=fsbdev3_065627.

Throughout the Plan

There is a need to address, either by plan direction or other plan content, how all resource management should be prioritized given varying levels of funding.

There is a need to redraw the management area configuration used in the 1985 Plan. There is a need to update plan component language for the resources, goods, and services provided by the Cibola, and to remove plan components that are redundant with existing law, regulation, or policy.

There is a need to better recognize and potentially enhance the role of the Cibola National Forest in supporting local economies through both commodity production and services-such as recreation and tourism.

Across Multiple Resource Areas

There is a need to include plan direction addressing potential climate change effects and invasive species on the Cibola and to include a plan monitoring program.

There is a need to provide direction for an integrated resource approach to the use of planned fire and to address fuel accumulations in the Wildland Urban Interface (WUI).

Ecological Integrity

There is a need to provide direction for achieving sustainability and resiliency for and minimizing risks to vegetation community composition and structure and for restoring natural disturbance cycles where appropriate.

There is a need to provide direction to promote the achievement and maintenance of satisfactory soil condition.

There is a need to provide updated management direction for the protection, maintenance, and restoration of riparian vegetation and channel morphology in the plan area and for restoration of priority watersheds.

There is a need to provide direction on the sustainable management of groundwater, springs, wetlands, riparian areas, and perennial waters and their interconnections.

There is a need to update plan direction on providing a sustainable water supply for multiple uses (wildlife, livestock, recreation, and mining) and public water supplies.

There is a need to provide direction pertinent to riparian management zones around all lakes, perennial and intermittent streams, and open water wetlands.

There is a need to update direction addressing air quality and forest management.

There is a need to develop plan direction to contribute to the recovery and conservation of federally recognized species, maintain viable populations of species of conservation concern, and maintain common and abundant species within the plan area.

There is a need to provide direction addressing habitat(s) for plant and animal species important to tribes and other traditional communities.

There is a need to provide direction for managing aquatic passage and terrestrial habitat connectivity.

Cultural and Historic Resources

There is a need to update direction on the stabilization and preservation of historic properties and address the role of management of historic properties in economic development.

There is a need to update management direction for American Indian and non-Indian traditional cultural properties and sacred sites.

There is a need to provide direction addressing management of historic and contemporary cultural uses by federally recognized Indian tribes and traditional communities not considered under tribal relations.

There is a need to address, at either the management or geographic area scale, the inventory and management of historic properties and other cultural resources and uses.

There is a need to provide direction that addresses the alignment of management of historic properties and landscapes, sacred sites, contemporary uses, and tribal cultural needs with other resource management objectives (particularly but not limited to ecosystem restoration). There is a need to provide direction on the identification and documentation of historic properties at risk of damage or destruction from catastrophic wildland fire.

There is a need to update direction addressing immitigable adverse effects to historic properties.

Areas of Tribal Importance

There is a need to update direction addressing consistency of activities with legally mandated trust responsibilities to tribes.

There is a need to update direction regarding sacred sites, sacred places, natural and cultural resources important to tribes, and requests for reburial of human remains and cultural items.

There is a need to update plan direction regarding administration of temporary closure orders to ensure privacy for tribes engaged in cultural and ceremonial activities.

There is a need to update direction on design, location, installation, maintenance, and abandonment of towers, facilities, and alternative infrastructure within communication and energy generation sites, giving due consideration to the value and importance of high places (mountaintops and ridges) that may be sacred sites or important cultural landscapes to tribes.

Multiple Uses

There is a need to provide plan direction for restoration treatments for those geographic areas and vegetation types that are most outside of the natural range of variability while considering capability of local infrastructure, contractors, and markets.

There is a need to provide direction for management and removal of miscellaneous forest products for commercial, noncommercial, tribal and/or land grant use.

There is a need to provide direction to the livestock grazing program that incorporates adaptive management toward ecosystem-based desired conditions.

Recreation

There is a need to integrate sustainable recreation management with that of other Forest resources and to provide guidance for managing a sustainable trails program while addressing use conflicts.

There is a need to provide management direction on the Continental Divide National Scenic Trail.

There is a need to provide guidance for managing recreation activities that occur in areas sensitive to resource degradation or at risk due to high visitation.

There is a need to update direction on managing recreational aviation activities, caves, and recreational activities associated with wildlife, fish, and cultural/historic sites.

There is a need to update plan direction and guidance for implementing the Recreation Opportunity Spectrum classification system and incorporating scenic integrity objectives for managing scenic resources.

Designated Areas

There is a need to update direction for managing designated Inventoried Roadless Areas, eligible Wild and Scenic Rivers, designated Research Natural Areas, and for managing designated wilderness.

There is a need to provide direction on management of areas that may be recommended for wilderness, during the interim period while Congress is considering designation.

There is a need to provide direction for areas that may be recommended for various other designations.

Infrastructure

There is a need to update direction on the management of infrastructure and for road maintenance in watersheds identified as being impaired or at-risk.

Land Status and Ownership, Use and Access

There is a need to update direction for obtaining legal access that addresses public, private landowner, tribal, land grant, and management needs and for progressing toward a contiguity of the land base and a reduction of small unmanageable tracts.

Energy, Minerals and Special Uses

There is a need to provide updated direction regarding management of recreational mining, mineral exploration and extraction, and the use of common minerals.

There is a need to update plan direction for managing existing or proposed transmission corridors and renewable energy generation.

There is a need to provide direction addressing safety concerns pertinent to maintenance activities associated with existing energy and communication corridors.

Public Involvement

The Cibola NF initiated public engagement activities in October 2012 and held 29 public meetings and collaborative work sessions through July 2014 to explain the plan revision process and to solicit comments, opinions, data, and ideas from members of the public, governmental entities, tribes, land grants, and non-governmental organizations. Six of these meetings introduced and explained the Cibola's Forest Plan revision effort and called for input and data pertinent to the assessment of conditions, trends, and risks to sustainability. Ten meetings were held to explain the draft assessment report subsequent to its release in April 2014 and to solicit comments, and 13 collaborative work sessions followed, focusing on the needs for change to the 1985 Cibola Forest Plan, based on findings from the assessment and comments received. Attendance at the 29 meetings numbered approximately 600, and nearly 1,800 comment letters or forms were received either at the meetings or by email, postal mail, Web-form, or a Web-based interactive mapping tool. Comments received were displayed on Web-based public reading rooms. Public input on both the assessment report and initial needs-for-change statements was used to update both documents. Information to the public was provided by a dedicated Forest Plan revision Web page and through mailings, flyers, news releases, Twitter, and radio and television interviews. Any comments related to the Cibola's assessment report that are received following the publication of this Notice may be considered in the affected environment sections of the draft and final environmental impact statements.

Scoping Process

Written comments received in response to this notice will be analyzed to complete the identification of the needs for change to the existing plan, further develop the proposed action (initial development of the proposed revised plan), and identify potential significant issues. Significant issues will, in turn, form the basis for developing alternatives to the proposed action. Comments on the preliminary needs for change and proposed action will be most valuable if received by April 3, 2015, and should clearly articulate the reviewer's opinions and concerns. Development of the proposed revised plan and associated EIS will occur with opportunities for public engagement throughout the revision process.

Comments received in response to this notice, including the names and addresses of those who comment, will be part of the public record. Comments submitted anonymously will be accepted and considered in the NEPA process; however, anonymous comments will not provide the Agency with the ability to provide the respondent with subsequent environmental documents. See the below Objection process material, particularly the requirements for filing an objection, for how anonymous comments are handled during the objection process. Refer to the Forest's Web site http://www.fs.usda.gov/detail/cibola/landmanagement/planning/?cid=fsbdev3_065627 for information on when public meetings will be scheduled for refining the proposed action and identifying possible alternatives to the proposed action.

Applicable Planning Rule

Preparation of the revised Forest Plan for the Cibola National Forest began with the assessment of the conditions and trends of the Forest's ecological, social, and economic resources, initiated under the planning procedures contained in the 2012 Forest Service planning rule (36 CFR 219 (2012)).

Permits or Licenses Required To Develop the Proposed Action

No permits or licenses are needed for the development or revision of a forest plan.

Decisions Will Be Subject to Objection

The decision to approve the revised Forest Plan for the Cibola National Forest Mountain Ranger Districts will be subject to the objection process identified in 36 CFR part 219 Subpart B (219.50 to 219.62). According to 36 CFR 219.53(a), those who may file an objection are individuals and entities who have submitted substantive formal comments related to plan revision during the opportunities provided for public comment during the planning process.

Documents Available for Review

The Needs for Change documentation, the Assessment Report including specialist reports, summaries of the public meetings and public meeting materials, and public comments are posted on the Forest's Web site at: http://www.fs.usda.gov/detail/cibola/landmanagement/planning/?cid=fsbdev3_065627.

As necessary or appropriate, the material available on this site will be further adjusted as part of the planning process using the provisions of the 2012 planning rule.

Authority: 16 U.S.C. 1600-1614; 36 CFR part 219 [77 FR 21260-21273].

Responsible Official.
Dated: February 2, 2015.
Elaine Kohrman,
Forest Supervisor.

[FR Doc. 2015-02545 Filed 2-6-15; 8:45 am]

BILLING CODE 3410-11-P